DEPARTMENT OF THE INTERIOR

National Park Service

[NPS-WASO-NAGPRA-NPS0035947; PPWOCRADN0-PCU00RP14.R50000]

Notice of Inventory Completion Amendment: U.S. Department of the Interior, National Park Service, San Juan Island National Historical Park, Friday Harbor, WA

AGENCY: National Park Service, Interior.

ACTION: Notice; amendment.

SUMMARY: In accordance with the Native American Graves Protection and Repatriation Act (NAGPRA), the U.S. Department of the Interior, National Park Service, San Juan Island National Historical Park (SAJH) has amended a Notice of Inventory Completion published in the Federal Register on July 18, 2008. This notice amends the cultural affiliation determination and number of associated funerary objects in a collection removed from San Juan County, WA.

DATES: Repatriation of the human remains and associated funerary objects in this notice may occur on or after July 3, 2023.

ADDRESSES: Elexis Fredy, Superintendent, San Juan Island National Historical Park, 650 Mullis Street, Suite 100, P.O. Box 429, Friday Harbor, WA 98250, telephone (360) 378-2240 Ext. 2223, email elexis_fredy@nps.gov.

SUPPLEMENTARY INFORMATION: This notice is published as part of the National Park Service's administrative responsibilities under NAGPRA. The determinations in this notice are the sole responsibility of the Superintendent, SAJH. Additional information on the amendments and determinations in this notice, including the results of consultation, can be found in the inventory or related records held by SAJH.

Amendment

This notice amends the determinations published in a Notice of Inventory Completion in the Federal Register (73 FR 41380-41381, July 18, 2008). Repatriation of the items in the original Notice of Inventory Completion has not occurred. On October 15, 2019, San Juan Island National Historical Park staff transported the human remains to the Washington Department of Archaeology and Historic Preservation for osteological examination. Two funerary objects from English Camp Site in San Juan County, WA, were identified during the examination. The two associated funerary objects (previously identified as no associated funerary objects) are one lot of faunal material and one lot of rocks. Following further consultation, seven additional Indian Tribes are determined to be culturally affiliated with the human remains and associated funerary objects listed in this amended notice.

Determinations (as Amended)

Pursuant to NAGPRA and its implementing regulations, and after consultation with the appropriate Indian Tribes and Native Hawaiian organizations, SAJH has determined that:

• The human remains described in this amended notice represent the physical remains of two individuals of Native American ancestry.

• The two objects described in this amended notice are reasonably believed to have been placed with or near individual human remains at the time of death or later as part of the death rite or ceremony.

• There is a relationship of shared group identity that can be reasonably traced between the human remains and associated funerary objects described in this notice and the Jamestown S'Klallam Tribe; Lower Elwha Tribal Community; Lummi Tribe of the Lummi Reservation; Port Gamble S'Klallam Tribe; Samish Indian Nation; Stillaguamish Tribe of Indians of Washington; Swinomish Indian Tribal Community; and the Tulalip Tribes of Washington.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after July 3, 2023. If competing requests for repatriation are received, SAJH must determine the most appropriate requestor prior to repatriation. Requests for joint repatriation of the human remains and associated funerary objects are considered a single request and not competing requests. SAJH is responsible for sending a copy of this notice to the Indian Tribes and Native Hawaiian organizations identified in this notice.

Authority: Native American Graves Protection and Repatriation Act, 25 U.S.C. 3003, and the implementing regulations, 43 CFR 10.9, 10.10, 10.13, and 10.14.

Dated: May 24, 2023.
Melanie O'Brien,
Manager, National NAGPRA Program.

[FR Doc. 2023-11698 Filed 5-31-23; 8:45 am]

BILLING CODE 4312-52-P